DEPARTMENT OF LABOR

Office of the Assistant Secretary for Veterans' Employment and Training

The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and section 9 of the Federal Advisory Committee Act (FACA) (Pub. L. 92-462, Title 5 U.S.C. app.II). The authority of the ACVETEO is codified in Title 38 U.S. Code, section 4110.

The ACVETEO is responsible for assessing employment and training needs of veterans; determining the extent to which the programs and activities of the U.S. Department of Labor meet these needs; and assisting to conduct outreach to employers seeking to hire veterans. The ACVETEO will conduct a business meeting on Wednesday, August 5, 2009 from 8:30 a.m. to 4 p.m., at the Hyatt Regency Washington on Capitol Hill Hotel, 400 New Jersey Avenue, NW., Ticonderoga room lower level, Washington, DC 20001.

The ACVETEO will discuss programs to assist veterans seeking employment and to raise employer awareness as to the advantages of hiring veterans, with special emphasis on employer outreach and wounded and injured veterans. There will be an opportunity for persons or organizations to address the committee. Any individual or organization that wishes to do so should contact Margaret Hill Watts at (202) 693-4744. Time constraints may limit the number of presentations.

Individuals needing special accommodations should notify Margaret Hill Watts at (202) 693-4744 by July 13, 2009.

Signed in Washington, DC, this 29th day of June 2009.
John M. McWilliam,
Deputy Assistant Secretary, Veterans' Employment and Training Service.

[FR Doc. E9-15771 Filed 7-2-09; 8:45 am]

BILLING CODE 4510-79-P